OFFICE OF PERSONNEL MANAGEMENT

Submission for OMB Review; Comment Request for Reclearance of a Revised Information Collection: RI 38-31

AGENCY: Office of Personnel Management.

ACTION: Notice.

SUMMARY: In accordance with the Paperwork Reduction Act of 1995 (Public Law 104-13, May 22, 1995), this notice announces that the Office of Personnel Management (OPM) has submitted to the Office of Management and Budget (OMB) a request for reclearance of a revised information collection. RI 38-31, We Need More Information About Your Missing Payment, is sent out by the Office of Retirement Programs in response to notification of the loss or non-receipt of payment from the Civil Service Retirement and Disability Fund. The form requests the information needed to enable OPM to trace and/or reissue the payment. Missing payments may also be reported to OPM by a telephone call.

Approximately 8,000 reports of missing payment requests for both Treasury checks and electronic funds transfers (EFT's) are processed each year; 200 RI 38-31 forms will be completed annually while 7,600 telephone calls are received at OPM. We estimate it takes approximately 10 minutes to complete the form for missing Treasury checks or to report the missing payment by telephone. The annual burden for reporting missing checks is 1,300 hours. The remaining 200 reports are about missing EFT payments. Since people have realized that they can report on the telephone, no missing EFT payments are reported using RI 38-31. The annual burden of reporting 200 missing EFT payments by telephone is 33 hours. The combined burden for collecting this information is 1,333 hours. In 1998 we included a total burden of 25 hours because 50 missing EFT payments were reported using RI 38-31. It takes an estimated 30 minutes to report a missing EFT payment using RI 38-31. The total burden is 17 hours lower because RI 38-31 is no longer used to report missing EFT payments.

For copies of this proposal, contact Mary Beth Smith-Toomey on (202) 606-8358, FAX (202) 418-3251 or e-mail to mbtoomey@opm.gov. Please include a mailing address with your request.

DATES: Comments on this proposal should be received January 7, 2002.

ADDRESSES: Send or deliver comments to—

Ronald W. Melton, Chief, Operations Support Division, Retirement and Insurance Service, U.S. Office of Personnel Management, 1900 E Street, NW, Room 3349A, Washington, DC 20415-3540 and

Joseph Lackey, OPM Desk Officer, Office of Information & Regulatory Affairs, Office of Management and Budget, New Executive Office Building, NW, Room 10235, Washington, DC 20503.

FOR INFORMATION REGARDING ADMINISTRATIVE COORDINATION—CONTACT: Donna G. Lease, Team Leader, Forms Analysis and Design, (202) 606-0623.

Office of Personnel Management.
Kay Coles James,
Director.

[FR Doc. 01-30246 Filed 12-5-01; 8:45 am]

BILLING CODE 6325-50-P